DEPARTMENT OF COMMERCE

National Oceanic and Atmospheric Administration

Consistency Certification for a Proposed Project in Sterling, New York; Notice of Closure of the Administrative Appeal Decision Record

AGENCY: National Oceanic and Atmospheric Administration (NOAA), Department of Commerce.

ACTION: Notice of Closure—Administrative Appeal Decision Record.

SUMMARY: This announcement provides notice that the decision record for an administrative appeal filed with the Secretary of Commerce (Secretary) by Mark Smolinski (Appellant) has closed. No additional information, briefs, or comments (not previously submitted and made part of the decision record prior to closure) will be considered by the Secretary in deciding the appeal.

DATES: The administrative appeal decision record closed on February 28, 2014.

ADDRESSES: Materials from the appeal record are available at NOAA, Office of General Counsel for Ocean Services, 1305 East-West Highway, Room 6111, Silver Spring, MD 20910.

FOR FURTHER INFORMATION CONTACT: Gladys P. Miles, Attorney-Advisor, NOAA, Office of General Counsel, 301-713-7384, or at gcos.comments@noaa.gov.

SUPPLEMENTARY INFORMATION: On August 22, 2013, the Secretary of Commerce (Secretary) received a “Notice of Appeal” filed by Mark Smolinski, pursuant to the Coastal Zone Management Act of 1972 (CZMA), 16 U.S.C. 1451 et seq., and implementing regulations found at 15 CFR part 930, Subpart H. The appeal is taken from an objection by the New York Department of State to a consistency certification for a U.S. Army Corps of Engineer permit needed for the installation of a solar panel array onto an existing dock located in Sterling, New York. Notice of this appeal was published in the Federal Register on September 23, 2013. See 78 FR 58288.

A CZMA consistency appeal decision is based on information contained in the administrative appeal record developed by the parties. Under the CZMA, the Secretary must close the decision record for an appeal no later than 160 days after notice of the appeal is first published in the Federal Register. See 16 U.S.C. 1465(b). Consistent with these requirements, the Secretary closed the administrative appeal decision record for the federal consistency appeal filed by Mr. Smolinski on February 28, 2014. No further information, briefs, or comments (not previously submitted and made part of the decision record prior to closure) will be considered by the Secretary in deciding the appeal.

[Federal Domestic Assistance Catalog No. 11.419 Coastal Zone Management Program Assistance.]

Dated: March 7, 2014.
Jeffrey S. Dillen,
Acting Chief, Oceans & Coasts Section, NOAA of General Counsel.

[FR Doc. 2014-05416 Filed 3-11-14; 8:45 am]

BILLING CODE 3510-22-P